DEPARTMENT OF COMMERCE

National Oceanic and Atmospheric Administration

Agency Information Collection Activities; Submission to the Office of Management and Budget (OMB) for Review and Approval; Comment Request; Alaska Region Permit Family of Forms

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on October 3, 2023 (88 FR 68110), during a 60-day comment period. This notice allows for an additional 30 days for public comments.

Agency: National Oceanic and Atmospheric Administration (NOAA), Commerce.

Title: Alaska Region Permit Family of Forms.

OMB Control Number: 0648-0206.

Form Number(s): None.

Type of Request: Regular submission (extension of a current information collection).

Number of Respondents: 430.

Average Hours per Response: Application for Federal Fisheries Permit: 21 minutes; Application for Federal Processor Permit: 25 minutes; Exempted Fisheries Permit application: 100 hours.

Total Annual Burden Hours: 256 hours.

Needs and Uses: The National Marine Fisheries Services (NMFS), Alaska Region, is requesting extension of a currently approved information collection for the applications for the Federal Fisheries Permit (FFP), the Federal Processor Permit (FPP), and the Exempted Fishing Permit (EFP).

NMFS requires an FFP for U.S. vessels that are used to fish for groundfish in the Gulf of Alaska or Bering Sea and Aleutian Islands. An FFP is also required for vessels used to fish for any non-groundfish species and that are required to retain any bycatch of groundfish under 50 CFR 679.4(b). An FPP is required for stationary floating processors (processing vessels that operate solely within Alaska State waters) and is required for shoreside processors that receive and/or process groundfish harvested from Federal waters or from any federally permitted vessels. NMFS issues an EFP to allow groundfish fishing activities that would otherwise be prohibited under regulations for groundfish fishing. EFPs are issued to support projects that could benefit the groundfish fisheries and the environment and result in gathering information not otherwise available through research or commercial fishing operations. Regulations governing these permits are at 50 CFR 600.745, 679.4, and 679.6.

Section 303(b)(1) of the Magnuson-Stevens Fishery Conservation and Management Act specifically recognizes the need for permit issuance. Requiring a permit for marine resource users—mandated by 50 CFR 679.4(b), 679.4(f); 679.6; and 600.745(b)—is one of the regulatory steps taken to carry out conservation and management objectives. Permit issuance is essential in fishery resources management for identification of the participants and expected activity levels and for regulatory compliance. The information requested on the FFP, FPP, and EFP applications is used for fisheries management and regulatory compliance by NMFS Sustainable Fisheries Division, NMFS Restricted Access Management Program, NMFS Observer Program, NOAA Office of Law Enforcement, the U.S. Coast Guard, and the North Pacific Fisheries Management Council.

The type of information collected on the FFP application includes permit holder identification information, vessel information, permit information, and species endorsements. Information collected on the FPP application includes processor identification information, stationary floating processor or community quota entity vessel information, and vessel ownership information. An EFP application includes information on the applicant and a description of the project design including how it will vary from current fishing regulations, the species affected and targeted, when and where the fishing will take place, the vessel that will be used, and a provision for public release of all obtained information.

Affected Public: Individuals or households; Business or other for-profit organizations.

Frequency: Annually; Every 3 years; On occasion.

Respondent's Obligation: Required to Obtain or Retain Benefits; Mandatory.

Legal Authority: Magnuson-Stevens Fishery Conservation and Management Act.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0206.

Sheleen Dumas,
Department PRA Clearance Officer, Office of the Under Secretary for Economic Affairs, Commerce Department.

[FR Doc. 2024-05844 Filed 3-19-24; 8:45 am]

BILLING CODE 3510-22-P